DEPARTMENT OF COMMERCE

International Trade Administration

[A-570-020]

Melamine From the People's Republic of China: Final Results of the Expedited Sunset Review of the Antidumping Duty Order

AGENCY: Enforcement and Compliance, International Trade Administration, Department of Commerce.

SUMMARY: As a result of this expedited sunset review, the Department of Commerce (Commerce) finds that revocation of the antidumping duty (AD) order on melamine from the People's Republic of China (China) would be likely to lead to continuation or recurrence of dumping at the levels indicated in the “Final Results of Review” section of this notice.

DATES: Applicable March 9, 2021.

FOR FURTHER INFORMATION CONTACT: Peter Zukowski, AD/CVD Operations, Office III, Enforcement and Compliance, International Trade Administration, U.S. Department of Commerce, 1401 Constitution Avenue NW, Washington, DC 20230; telephone: (202) 482-0189.

SUPPLEMENTARY INFORMATION:

Background

On December 28, 2015, Commerce issued the AD order on melamine from China.¹ On November 3, 2020, Commerce published the Notice of Initiation of the first sunset review of the Order pursuant to section 751(c) of the Tariff Act of 1930, as amended (the Act).² On November 10, 2020, Commerce received a notice of intent to participate from Cornerstone Chemical Company (Cornerstone), a domestic producer of melamine and the petitioner in the underlying investigation, within the deadline specified in 19 CFR 351.218(d)(1)(i).³ Cornerstone claimed domestic interested party status under section 771(9)(C) of the Act, as a manufacturer of a domestic like product in the United States.⁴ On November 25, 2020, Cornerstone filed its timely substantive response within the 30-day deadline specified in 19 CFR 351.218(d)(3)(i).⁵ Commerce received no substantive responses from any other interested parties with respect to the Order covered by this sunset review, nor was a hearing requested. On December 23, 2020, Commerce notified the U.S. International Trade Commission that it did not receive an adequate substantive response from respondent interested parties.⁶ As a result, pursuant to section 751(c)(3)(B) of the Act and 19 CFR 351.218(e)(1)(ii)(C)(2), Commerce is conducting an expedited (120-day) sunset review of the Order.

¹ See Melamine from the People's Republic of China: Antidumping Duty and Countervailing Duty Orders, 80 FR 80751 (December 28, 2015) (Order).

² See Initiation of Five-Year (Sunset) Reviews, 85 FR 69585 (November 3, 2020) (Notice of Initiation).

³ See Cornerstone's Letter, “Five-Year (“Sunset”) Review Of Antidumping Duty Order On Melamine from The People's Republic Of China: Domestic Interested Party Notice Of Intent To Participate,” dated November 10, 2020.

⁴ Id.

⁵ See Cornerstone's Letter, “Five-Year (“Sunset”) Review Of Antidumping Duty Order On Melamine from The People's Republic Of China: Domestic Interested Party Substantive Response,” dated November 25, 2020.

⁶ See Commerce's Letter, “Sunset Reviews for November 2020,” dated December 23, 2020.

Scope of the Order

The scope of the Order covers melamine (Chemical Abstracts Service (CAS) registry number 108-78-01, molecular formula C3H6N6).⁷ Melamine is a crystalline powder or granule typically (but not exclusively) used to manufacture melamine formaldehyde resins. All melamine is covered by the scope of the Order irrespective of purity, particle size, or physical form. Melamine that has been blended with other products is included within this scope when such blends include constituent parts that have been intermingled, but that have not been chemically reacted with each other to produce a different product. For such blends, only the melamine component of the mixture is covered by the scope of the Order. Melamine that is otherwise subject to the Order is not excluded when commingled with melamine from sources not subject to the Order. Only the subject component of such commingled products is covered by the scope of the Order.

⁷ Melamine is also known as 2,4,6-triamino-striazine; l,3,5-Triazine-2,4,6-triamine; Cyanurotriamide; Cyanurotriamine; Cyanuramide; and by various brand names.

The subject merchandise is provided for in subheading 2933.61.0000 of the Harmonized Tariff Schedule of the United States (HTSUS). Although the HTSUS subheading and CAS registry number are provided for convenience and customs purposes, the written description of the scope is dispositive.

Analysis of Comments Received

All issues raised in this review are addressed in the Issues and Decision Memorandum.⁸ The issues discussed in the Issues and Decision Memorandum include the likelihood of continuation or recurrence of dumping and the magnitude of the margins of dumping likely to prevail if the Order were revoked. The Issues and Decision Memorandum is a public document and is on file electronically via Enforcement and Compliance's Antidumping and Countervailing Duty Centralized Electronic Service System (ACCESS). ACCESS is available to registered users at https://access.trade.gov. A list of topics discussed in the Issues and Decision Memorandum is included as an Appendix to this notice. In addition, a complete version of the Issues and Decision Memorandum can be accessed directly at http://enforcement.trade.gov/frn/index.html. The signed and electronic versions of the Issues and Decision Memorandum are identical in content.

⁸ See Memorandum, “Issues and Decision Memorandum for the Expedited Sunset Review of the Antidumping Duty Order on Melamine from the People's Republic of China,” dated concurrently with, and hereby adopted by, this notice.

Final Results of Review

Pursuant to sections 751(c)(1) and 752(c)(1) and (3) of the Act, Commerce determines that revocation of the Order would be likely to lead to continuation or recurrence of dumping, and that the magnitude of the dumping margins likely to prevail would be weighted-average margins of up to 363.31 percent.

Administrative Protective Order

This notice serves as the only reminder to parties subject to administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notifications to Interested Parties

We are issuing and publishing these final results in accordance with sections 751(c), 752(c), and 777(i)(1) of the Act, and 19 CFR 351.221(c)(5)(ii).

Dated: March 2, 2021.
Christian Marsh,
Acting Assistant Secretary for Enforcement and Compliance.

Appendix

List of Topics Discussed in the Issues and Decision Memorandum

I. Summary

II. Background

III. Scope of the Order

IV. History of the Order

V. Legal Framework

VI. Discussion of the Issues

Comment 1: Likelihood of Continuation or Recurrence of Dumping

Comment 2: Magnitude of the Margins Likely to Prevail

VII. Final Results of Sunset Review

VIII. Recommendation

[FR Doc. 2021-04861 Filed 3-8-21; 8:45 am]

BILLING CODE 3510-DS-P